DEPARTMENT OF HEALTH AND HUMAN SERVICES

Development of a Universal Symbol for Language Assistance Services in Health Settings

AGENCY: Office of Minority Health, U.S. Department of Health and Human Services.

ACTION: Request for information.

SUMMARY: The U.S. Department of Health and Human Services (HHS) Office of Minority Health (OMH) seeks input from language access stakeholders, including organizations representing and/or serving communities with Limited English Proficiency (LEP), to inform the development of a universal symbol informing people about the availability of language assistance services in health settings. This is NOT a solicitation for proposals or proposal abstracts.

DATES: Written comments must be submitted and received at the address provided below, no later than 11:59 p.m. on May 20, 2024.

ADDRESSES: OMH invites the submission of the requested information through one of the following methods:

• Preferred method: Submit information through the Federal eRulemaking Portal at http://www.regulations.gov. Follow the online instructions for submissions.

• Email: Send comments to minorityhealth@hhs.gov with the subject line “OMH RFI: Universal Symbol for Language Assistance Services in Health Settings.”

Submissions received after the deadline will not be reviewed. Respond concisely and in plain language. You may use any structure or layout that presents your information well. You may respond to some or all of our questions, and you can suggest other factors or relevant questions. You may also include links to online material or interactive presentations. Clearly mark any proprietary information and place it in its own section or file. Your response will become government property, and we may publish some of its non-proprietary content.

FOR FURTHER INFORMATION CONTACT: Leandra Olson, 1101 Wootton Parkway, Suite 100, Rockville, MD 20852, Leandra.Olson@hhs.gov, (301) 348-3577.

SUPPLEMENTARY INFORMATION:

Please Note: This request is for information (RFI) and is for planning purposes only. It is not a notice for a proposal and does not commit the Federal Government to issue a solicitation, make an award, or pay any costs associated with responding to this announcement. All submitted information shall remain with the Federal Government and will not be returned. All responses will become part of the public record and will not be held confidential. The Federal Government reserves the right to use information provided by respondents for purposes deemed necessary and legally appropriate. Respondents are advised that the Federal Government is under no obligation to acknowledge receipt of the information received or provide feedback to respondents with respect to any information submitted. Responses will not be accepted after the due date.

I. Background Information

The Office of Minority Health (OMH)

Authorized under section 1707 of the Public Health Service Act, 42 U.S.C. 300u-6, as amended, the mission of OMH is to improve the health of racial and ethnic minority and American Indian and Alaska Native populations through the development of health policies and programs that help eliminate health disparities. OMH awards and other activities are intended to support the identification of effective policies, programs and practices for improving health outcomes and to promote sustainability and dissemination of these approaches.

Universal Symbol for Language Assistance Services

Under Fiscal Year 2023 Appropriations, Congress called upon OMH to research, develop, and test methods of informing LEP individuals about the availability of language assistance services. The Congressional report noted that the goal of this research would preferably be to develop a universal symbol informing people about the availability of language access services.

II. Request for Information

Through this RFI, OMH seeks to obtain information from language access stakeholders, including organizations representing and/or serving communities with LEP, to guide the development and implementation of a symbol informing people about the availability of language assistance services in health settings, including for health services, programs, and/or products.

III. Questions

• What methods do you or your organization currently use to inform individuals with LEP about the availability of services in their preferred language?

○ How effective are these methods?

• What are the challenges to implementing these methods? Do you believe a new graphic symbol informing people about the availability of language assistance services would increase the rate at which people request language assistance services and thereby increase access to information about health services, programs, and/or products?

• Are you aware of any previous or existing symbols used to inform people about the availability of language assistance services (e.g., used in the health sector or other sectors)?

○ If yes, please share any information you have regarding the development and implementation of the symbol, including best practices, challenges, and effectiveness or impact.

• What should be considered in the development of a new graphic symbol informing people about the availability of language assistance services in health settings? Please add any specific suggestions you have for the symbol design and usability testing.

• What steps do you recommend for implementing, disseminating, and ensuring effectiveness of a new symbol for language assistance services, including utilization by LEP individuals, healthcare providers, public health departments, and other entities engaged in health care?

• Are there frameworks or standards that should be considered to support the development, testing, implementation, and dissemination of a new symbol for language assistance services?

IV. Definitions

For the purposes of this RFI, the following working definitions apply:

Language Assistance Services—All oral, written, and signed language services needed to assist individuals with LEP and people with disabilities to communicate effectively. Examples of language assistance services include oral interpretation services and written translations of materials.

Limited English Proficiency (LEP)—An individual who does not speak English as their preferred language and who has a limited ability to read, write, speak or understand English in a manner that permits them to communicate effectively and have meaningful access to and participate in the services, activities, programs, or other benefits administered in a health setting. Individuals with LEP may be competent in English for certain types of communication (e.g., speaking or understanding) but have limited proficiency in English in other areas (e.g., reading or writing). LEP designations are also context-specific; an individual may possess sufficient English language skills to function in one setting (e.g., conversing in English with coworkers), but these skills may be insufficient in other settings (e.g., addressing court proceedings). An individual who is deaf or hard of hearing may also have limited proficiency in spoken or written English.

Dated: April 10, 2024.
Leandra Olson,
Policy Team Lead, Office of Minority Health.

[FR Doc. 2024-08409 Filed 4-18-24; 8:45 am]

BILLING CODE 4150-29-P